SURFACE TRANSPORTATION BOARD

[Docket No. FD 36486]

Grainbelt Corporation—Trackage Rights Exemption—BNSF Railway Company

Grainbelt Corporation (GNBC), a Class III rail carrier, has filed a verified notice of exemption under 49 CFR 1180.2(d)(7) for the grant of amended, local trackage rights on trackage owned by BNSF Railway Company (BNSF) between approximately milepost 668.73 in Long, Okla., and approximately milepost 723.30 in Quanah, Tex. (the Line), allowing GNBC to (1) use the Line to access the Plains Cotton Cooperative Association (PCCA) facility near BNSF Chickasha Subdivision milepost 688.6 at Altus, Okla., and (2) to operate additional trains on the Line to accommodate the movement of trains transporting BNSF customers' railcars (loaded or empty) located along the Line, to unit train facilities on the Line.¹ GNBC and BNSF have agreed to the amended trackage rights pursuant to a written amendment ² to their existing trackage rights agreement dated February 19, 2021.³

¹ GNBC states that it already holds overhead trackage rights granted by BNSF's predecessor between Snyder Yard at milepost 664.00 and Quanah at milepost 723.30 allowing GNBC to interchange at Quanah with BNSF and Union Pacific Railroad Company. According to GNBC, these original trackage rights were supplemented in 2009 to allow GNBC to operate between Snyder, Okla., and Altus, with the right to perform limited local service at Long, Okla. See Grainbelt Corp.—Trackage Rts. Exemption—BNSF Ry. & Stillwater Cent. R.R., FD 35332 (STB served Dec. 17, 2009). GNBC states that the trackage rights were further amended in 2013 to allow GNBC to provide local grain service to a shuttle facility in Headrick, Okla., and again in 2014 to allow GNBC to provide local service to a grain shuttle facility in Eldorado, Okla. See Grainbelt Corp.—Trackage Rts. Exemption—BNSF Ry., FD 35719 (STB served Mar. 15, 2013); Grainbelt Corp.—Trackage Rts. Exemption—BNSF Ry., FD 35831 (STB served June 12, 2014). According to GNBC, the existing trackage rights will not be affected by the new trackage rights that are the subject of this proceeding.

² A redacted copy of the amendment is attached to the verified notice. An unredacted copy was filed under seal along with a motion for protective order pursuant to 49 CFR 1104.14. That motion was granted in a decision served on March 4, 2021.

³ GNBC states that its verified notice is related to a petition for partial revocation filed in Docket No. FD 36486 (Sub-No. 1), in which GNBC seeks authority to allow the proposed trackage rights to expire automatically twelve months after the effective date of the exemption. On March 4, 2021, GNBC filed in Docket Nos. FD 36486 and FD 36486 (Sub-No. 1) two letters of support from PCCA and Cargill Cotton asking that the Board promptly grant GNBC's requests in both dockets. GNBC's petition for partial revocation will be addressed in a separate decision.

The transaction may be consummated on or after March 28, 2021, the effective date of the exemption (30 days after the verified notice was filed).

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the notice contains false or misleading information, the exemption is void ab initio. Petitions to revoke the exemption under 49 U.S.C. 10502(d) may be filed at any time. The filing of a petition to revoke will not automatically stay the effectiveness of the exemption. Petitions for stay must be filed no later than March 19, 2021 (at least seven days before the exemption becomes effective).

All pleadings, referring to Docket No. FD 36486, should be filed with the Surface Transportation Board via e-filing on the Board's website. In addition, a copy of each pleading must be served on GNBC's representative, Eric M. Hocky, Clark Hill PLC, Two Commerce Square, 2001 Market St., Philadelphia, PA 19103.

According to GNBC, this action is categorically excluded from environmental review under 49 CFR 1105.6(c) and from historic preservation reporting requirements under 49 CFR 1105.8(b).

Board decisions and notices are available at www.stb.gov.

Decided: March 8, 2020.
By the Board, Allison C. Davis, Director, Office of Proceedings.
Aretha Laws-Byrum,
Clearance Clerk.

[FR Doc. 2021-05108 Filed 3-11-21; 8:45 am]

BILLING CODE 4915-01-P